COMMISSION ON CIVIL RIGHTS

Agenda and Notice of Public Meeting of the Delaware Advisory Committee

AGENCY: Commission on Civil Rights.

ACTION: Announcement of meeting.

SUMMARY: Notice is hereby given, pursuant to the provisions of the rules and regulations of the U.S. Commission on Civil Rights (Commission), and the Federal Advisory Committee Act (FACA) that a briefing meeting of the Delaware Advisory Committee to the Commission will convene at 1:00 p.m. (EDT) on Thursday, October 8, 2015, by teleconference. The purpose of the meeting is to hear from experts who will share information about the impact that discriminatory public school disciplinary practices and policies have on children of color. This presentation will inform the DE Advisory Committee's civil rights review of discriminatory school discipline in the state's public schools and whether the Supportive School Discipline Initiative is employed by Delaware schools.

Interested members of the public may listen to the discussion by calling the following toll-free conference call number 1-888-359-3624 and conference call code: 2977026#. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number.

Persons with hearing impairments may also follow the discussion by first calling the Federal Relay Service at 1-800-977-8339 and providing the operator with the above conference call number and conference call code.

Members of the public are invited to submit written comments; the comments must be received in the regional office by Monday, October 9, 2015. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

The activities of this advisory committee, including records and documents discussed during the meeting, will be available for public viewing, as they become available at: https://database.faca.gov/committee/meetings.aspx?cid=240. Records generated from this meeting may also be inspected and reproduced at the Eastern Regional Office, as they become available, both before and after the meeting. Persons interested in the work of this advisory committee are advised to go to the Commission's Web site, www.usccr.gov, or to contact the Eastern Regional Office at the above phone number, email or street address.

Agenda

Administrative Matters

Ivy L. Davis, Director, Eastern Regional Office and Designated Federal Official

Welcome and Introductions

Enid Wallace-Simms, Vice Chair

Expert Presentations and Discussion

DE State Advisory Committee

Open Comment

DATES: Thursday, October 8, 2015 at 1:00 p.m. (EDT).

ADDRESSES: The meeting will be held via teleconference:

Public Call Information

Conference Call-in Number: 1-888-359-3624; Conference Call ID code: 2977026.

TDD: Dial Federal Relay Service 1-800-977-8339 and give the operator the above conference call-in number and conference call code.

FOR FURTHER INFORMATION CONTACT: Ivy L. Davis at ero@usccr.gov, or 202-376-7533.

Dated: September 8, 2015.
David Mussatt,
Chief, Regional Programs Unit.

[FR Doc. 2015-22954 Filed 9-11-15; 8:45 am]

BILLING CODE 6335-01-P